DEPARTMENT OF AGRICULTURE

Natural Resources Conservation Service

Notice of Appointees to the Agricultural Air Quality Task Force

AGENCY: Natural Resources Conservation Service, USDA.

ACTION: Notice of appointees.

SUMMARY: The Secretary of Agriculture has renewed the Agricultural Air Quality Task Force (AAQTF), and has appointed qualified individuals to serve as members.

DATES: The effective date of the appointment is September 17, 2004.

FOR FURTHER INFORMATION CONTACT: Elvis Graves, Acting Designated Federal Official; telephone: (336) 370-3331, extension 421; fax: (202) 720-2646, e-mail: elvis.graves@gnb.usda.gov.

SUPPLEMENTARY INFORMATION: On October 22, 2004, Agriculture Secretary Ann M. Veneman announced the selection of individuals to serve as members of AAQTF through September 17, 2006.

The Task Force is chaired by the Chief of the Natural Resources Conservation Service (NRCS) and made up of the Department of Agriculture (USDA) employees, industry representatives, and other experts in the fields of agriculture and air quality. The AAQTF charter is renewed every 2 years to address agricultural air quality issues.

Service as a Task Force member shall not constitute employment by, or the holding of an office of, the United States for the purpose of any Federal law. A Task Force member shall serve for a term of 2 years. AAQTF members shall receive no compensation from NRCS for their service as Task Force members except as described below. While away from home, or regular place of business, as a member of the Task Force, the member will be eligible for travel expenses paid by NRCS, including per diem in lieu of subsistence, at the same rate as a person employed intermittently in the Government service under Section 5703 of Title 5, United States Code.

Task Force Purpose

As required by Section 391 of the Federal Agriculture Improvement and Reform Act of 1996, the Chief of NRCS shall establish a Task Force to address agricultural air quality issues and advise the Secretary of Agriculture on oversight and coordination functions. The Task Force provides recommendations and guidance on the development and implementation of air quality policy. The Task Force also serves as an advisory committee and will operate under the terms of the Federal Advisory Committee Act.

The Task Force will:

1. Review research on agricultural air quality supported by Federal agencies;

2. Provide recommendations to the Secretary of Agriculture regarding air quality and its relation to agriculture based upon sound scientific findings;

3. Work to ensure intergovernmental (Federal, State and local) coordination in establishing policy for agricultural air quality, and to avoid duplication of efforts;

4. Assist, to the extent possible, Federal agencies in correcting their erroneous data with respect to agricultural air quality; and

5. Ensure that air quality research related to agriculture receives adequate peer review and considers economic feasibility.

An announcement of the first meeting of this Task Force will be published in the Federal Register. Additional information regarding the AAQTF may be found on the World Wide Web at http://aaqtf.tamu.edu.

2004-2006 USDA Agricultural Air Quality Task Force Members

Arizona

Kevin G. Rogers, Producer.

California

Cynthia Cory, California Farm Bureau.

Manuel F. Cunha, Jr., Nisei Farmers League.

Robert G. Flocchini, University of California-Davis.

Roger Isom, California Cotton Ginners & Growers.

Hawaii

Janet Ashman, Hawaii Agricultural Research Center.

Idaho

Dave Roper, Producer.

Patrick A. Takasugi, Idaho Department of Agriculture.

Indiana

Robert N. Jackman, Veterinarian, State Senator.

Rita Sharma, Producer.

Maryland

Phillip J. Wakelyn, National Cotton Council of America.

Nevada

Marc Lynn Pitchford, National Oceanographic and Atmospheric Administration.

New York

Douglas Shelmidine, Producer.

North Carolina

Viney P. Aneja, North Carolina State University.

Garth W. Boyd, Smithfield Foods, Incorporated.

Joseph Rudek, Environmental Defense.

Sally L. Shaver, U.S. Environmental Protection Agency.

Oklahoma

Annette H. Sharp, Central States Air Resources Agencies (CenSARA).

Texas

Robert V. Avant, Jr., Texas Food and Fibers Commission.

Calvin B. Parnell, Jr., Texas A&M University.

Bryan W. Shaw, Texas A&M University.

Utah

Nan Bunker, Producer.

Virginia

Gary Baise, Attorney.

Washington

lliam F. Schillinger, Washington State University.

Wisconsin

Steven R. Kirkhorn, M.D., Marshfield Clinic.

Signed in Washington, DC on November 12, 2004.
Bruce I. Knight,
Chief, Natural Resources Conservation Service.

[FR Doc. 04-26302 Filed 11-26-04; 8:45 am]

BILLING CODE 3410-16-P